DEPARTMENT OF TRANSPORTATION

Federal Railroad Administration

[Docket No. FRA-2000-7257; Notice No. 54]

Railroad Safety Advisory Committee (RSAC); Working Group Activity Update

AGENCY: Federal Railroad Administration (FRA), Department of Transportation (DOT).

ACTION: Announcement of Railroad Safety Advisory Committee (RSAC) Working Group Activities.

SUMMARY: The FRA is updating its announcement of RSAC's Working Group activities to reflect its current status.

FOR FURTHER INFORMATION CONTACT: Larry Woolverton, RSAC Coordinator, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: This notice serves to update FRA's last announcement of working group activities and status reports of March 17, 2009 (74 FR 11401). The 38th full RSAC Committee meeting was held April 2, 2009, and the 39th meeting is scheduled for June 25, 2009, at the Wardman Park Marriott Hotel, 2660 Woodley Road, NW., Washington, DC 20008.

Since its first meeting in April of 1996, the RSAC has accepted 31 tasks. The status for each of the open tasks (neither completed nor terminated) is provided below:

Open Tasks

Task 96-4—Tourist and Historic Railroads. Reviewing the appropriateness of the agency's current policy regarding the applicability of existing and proposed regulations to tourist, excursion, scenic, and historic railroads. This Task was accepted on April 2, 1996, and a Working Group was established. The Working Group monitored the steam locomotive regulation task. Planned future activities involve the review of other regulations for possible adaptation to the safety needs of tourist and historic railroads. Contact: Grady Cothen, (202) 493-6302.

Task 03-01—Passenger Safety. This task includes updating and enhancing the regulations pertaining to passenger safety, based on research and experience. This Task was accepted on May 20, 2003, and a Working Group was established. Prior to embarking on substantive discussions of a specific task, the Working Group set forth in writing a specific description of the task. The Working Group reports planned activities to the full Committee at each scheduled full RSAC meeting, including milestones for completion of projects and progress toward completion. At the first meeting, held September 9-10, 2003, a consolidated list of issues was completed. At the second meeting, held November 6-7, 2003, four task groups were established: Emergency Preparedness; Mechanical; Crashworthiness; and Track/Vehicle Interaction. The task forces met and reported on activities for Working Group consideration at the third meeting held May 11-12, 2004, and a fourth meeting was held October 26-27, 2004. The Working Group met on March 21-22, 2006, and again on September 12-13, 2006, at which time the group agreed to establish a task force on General Passenger Safety. The full Passenger Safety Working Group met on April 17-18, 2007, December 11-12, 2007, November 13, 2008, and June 8, 2009. Contact: Charles Bielitz, (202) 493-6314.

Emergency Preparedness Task Force: At the Working Group meeting of March 9-10, 2005, the Working Group received and approved the consensus report of the Emergency Preparedness Task Force related to emergency communication, emergency egress, and rescue access. These recommendations were presented to and approved by the full RSAC Committee on May 18, 2005. The Working Group met on September 7-8, 2005, and additional, supplementary recommendations were presented to and accepted by the full RSAC on October 11, 2005. The Notice of Proposed Rulemaking (NPRM) was published on August 24, 2006 (71 FR 50275), and was open for comment until October 23, 2006. The Working Group agreed upon recommendations for the final rule, including resolution of final comments received, during the April 17-18, 2007, meeting. The recommendations were presented to and approved by the full RSAC on June 26, 2007. The Passenger Train Emergency Systems final rule, focusing on emergency communication, emergency egress, and rescue access, was published on February 1, 2008 (73 FR 6370). The Task Force met on October 17-18, 2007, and reached consensus on draft rule text for a followup NPRM on Passenger Train Emergency Systems, focusing on low-location emergency exit path marking, emergency lighting, and emergency signage. The Task Force presented the draft rule text to the Passenger Safety Working Group on December 11-12, 2007, and the consensus draft rule text was presented to and approved by full RSAC vote during the February 20, 2008, meeting. At its most recent meeting, held May 13-14, 2008, the Task Force recommended clarifying the applicability of backup emergency communication system requirements in the February 1, 2008, final rule, and FRA announced its intention to exercise limited enforcement discretion for a new provision amending instruction requirements for emergency window exit removal. The Working Group ratified these recommendations on June 19, 2008. The Task Force met on March 31, 2009, to clarify issues related to the followup NPRM raised by members. The rule text was modified to better reflect the intent of the Task Force and the revised rule text was presented to and approved by the Passenger Safety Working Group on June 8, 2009. The Working Group proposed adding language to address an issue left open by the Task Force related to daily inspection of removable panels/windows in vestibule doors and is sending this back to the Task Force for review. The Working Group will finalize the open issue via mail ballot. No additional Task Force meetings are currently scheduled. Contact: Brenda Moscoso, (202) 493-6282.

Mechanical Task Force: (Completed.) Initial recommendations on mechanical issues (revisions to Title 49 Code of Federal Regulations (CFR) Part 238) were approved by the full Committee on January 26, 2005. At the Working Group meeting of September 7-8, 2005, the Task Force presented additional perfecting amendments and the full RSAC approved them on October 11, 2005. An NPRM was published in the Federal Register on December 8, 2005 (70 FR 73070). Public comments were due by February 17, 2006. The final rule was published in the Federal Register on October 19, 2006 (71 FR 61835), effective December 18, 2006.

Crashworthiness Task Force: Among its efforts, the Crashworthiness Task Force provided consensus recommendations on static end strength that were adopted by the Working Group on September 7-8, 2005. The full Committee accepted the recommendations on October 11, 2005. The Front-End Strength of Cab Cars and Multiple-Unit Locomotives NPRM was published in the Federal Register on August 1, 2007 (72 FR 42016), with comments due by October 1, 2007. A number of comments were entered into the docket, and a Crashworthiness Task Force meeting was held September 9, 2008, to resolve comments on the NPRM. Based on the consensus language agreed to at the meeting, FRA has prepared the text of the final rule incorporating the resolutions made at the Task Force meeting and the final rule language was adopted at the Passenger Safety Working Group meeting held on November 13, 2008. The language was presented and approved at the December 10, 2008, full RSAC meeting and the rule will go forward with a target publication date of June 25, 2009. Contact: Gary Fairbanks, (202) 493-6322.

Vehicle/Track Interaction Task Force: The Task Force is developing proposed revisions to 49 CFR parts 213 and 238, principally regarding high-speed passenger service. The Task Force met on October 9-11, 2007, and again on November 19-20, 2007, in Washington, DC, and presented the final Task Force Report and final recommendations and proposed rule text for approval by the Passenger Safety Working Group at the December 11-12, 2007, meeting. The final report and the proposed rule text were approved by the Working Group and was presented to and approved by full RSAC vote during the February 20, 2008, meeting. The group last met on February 27-28, 2008, and FRA is currently crafting an NPRM with a target publication date of September 2009. The Task Force may be reconvened to review comments on the NPRM, but no further meetings are currently scheduled. Contact: John Mardente, (202) 493-1335.

General Passenger Safety Task Force: At the Working Group meeting on April 17-18, 2007, the Task Force presented a progress report to the Working Group. The Task Force met on July 18-19, 2007, and afterwards, it reported proposed reporting cause codes for injuries involving the platform gap, which were approved by the Working Group by mail ballot in September 2007. The full RSAC approved the recommendations for changes to 49 CFR part 225 accident/incident cause codes on October 25, 2007. The Task Force continues work on passenger train door securement, “second train in station,” trespasser incidents, and System Safety-based solutions by developing a regulatory approach to System Safety. The System Safety regulation will cover all passenger railroads, including high-speed rail, and it is expected that the System Safety regulation will satisfy the risk reduction-mandated requirements for passenger railroads in the Rail Safety Improvement Act of 2008 (RSIA) (Pub. L. 110-432).

The General Passenger Safety Task Force presented draft guidance material for management of the gap that was considered and approved by the Working Group during the December 11-12, 2007, meeting and was presented and approved by full RSAC vote during the February 20, 2008, meeting. The group met on April 23-24, 2008, December 3-4, 2008, and April 21-23, 2009, and continues to work on emergency preparedness, door securement, and System Safety issues. The door securement team will meet in July and August 2009 and the System Safety group will hold “GoTo meetings” by teleconference in July with the American Public Transportation Association and commuter railroads. The next full meeting of the General Passenger Safety Task Force is scheduled for October 2009. Contact: Dan Knote, (631) 567-1596.

Task 05-01—Review of Roadway Worker Protection Issues. This Task was accepted on January 26, 2005, to review 49 CFR Part 214, Subpart C, Roadway Worker Protection (RWP), and related sections of Subpart A. The RSAC agreed to recommend consideration of specific actions to advance the on-track safety of railroad employees and contractors engaged in maintenance-of-way activities throughout the general system of railroad transportation, including clarification of existing requirements. A Working Group was established and reported to the RSAC any specific actions identified as appropriate. The first meeting of the Working Group was held on April 12-14, 2005. The Working Group was able to come to consensus on 32 separate items. However, prior to the full RSAC vote in June 2007, which confirmed working group recommendations on 31 of those items, two parties raised technical concerns regarding the draft language concerning electronic display of track authorities. In addition, there were eight items discussed by the Working Group, which led to valuable insight but over which the Working Group was unable to come to consensus. FRA intends to address all the items discussed through two rulemakings: (1) A relatively compact rulemaking that will address adjacent track protection and (2) a longer, catchall rulemaking that will address all consensus items and be broad enough in scope to raise the nonconsensus items for further discussion and comment. The decision to issue a separate adjacent track rule was due to an increase in roadway worker fatalities that occurred on adjacent track. Consequently, a draft NPRM to address adjacent track protection was published in the Federal Register on July 17, 2008, but due to concern that parts of the NPRM failed to accurately capture the consensus recommendations of the RSAC, the NPRM was withdrawn by FRA on August 13, 2008. FRA will address discrepancies between the consensus language and the adjacent track protection NPRM to clarify the essential issues, and intends to publish a second NPRM by August 31, 2009. FRA is also working on the longer, catchall rulemaking and plans to publish an NPRM in late 2009. Contact: Christopher Schulte, (610) 521-8201.

Task 05-02—Reduce Human Factor-Caused Train Accident/Incidents. This Task was accepted on May 18, 2005, to reduce the number of human factor-caused train accidents/incidents and related employee injuries. The Railroad Operating Rules Working Group was formed and the Group extensively reviewed the issues presented. The final Working Group meeting devoted to developing a proposed rule was held February 8-9, 2006. The Working Group was not able to deliver a consensus regulatory proposal, but did recommend that it be used to review comments on FRA's NPRM, which was published in the Federal Register on October 12, 2006 (FR 71 60372), with public comments due by December 11, 2006. Two reviews were held, one on February 8-9, 2007, the other on April 4-5, 2007. Consensus was reached on four items and those items were presented and accepted by the full RSAC Committee at the June 26, 2007, meeting. A final rule was published in the Federal Register on February 13, 2008 (73 FR 8442), with an effective date of April 14, 2008. FRA received four petitions for reconsideration of that final rule. The final rule that responded to the petitions for consideration was published in the Federal Register on June 16, 2008, and concluded the rulemaking. Working group meetings were held September 27-28, 2007, January 17-18, 2008, May 21-22, 2008, and September 25-26, 2008. The Working Group has considered issues related to issuance of Emergency Order No. 26 (prohibition on use of certain electronic devices while on duty) and “after arrival mandatory directives,” among other issues. The working group continues to work on after arrival orders and at the September 25, 2008, meeting voted to create a Highway-Rail Grade Crossing Task Force to review highway-rail grade crossing accident reports regarding incidents of crossing warning systems providing “short or no warning” resulting from or contributed to “by train operational issues” with the intent to recommend new accident/incident reporting codes that would better explain such events, and which may provide information for remedial action going forward. A follow-on task is to review and provide recommendations regarding supplementary reporting of train operations-related, no-warning, or short-warning incidents that are not technically warning system activation failures but which result in an accident/incident or a near miss. The Task Force has been formed and is scheduled to meet in the late 2009 timeframe. Contact: Douglas Taylor, (202) 493-6255.

Task 06-01—Locomotive Safety Standards. This task was accepted on February 22, 2006, to review 49 CFR Part 229, Railroad Locomotive Safety Standards, and revise as appropriate. A Working Group was established with the mandate to report any planned activity to the full Committee at each scheduled full RSAC meeting, to include milestones for completion of projects and to progress toward completion. The first Working Group meeting was held May 8-10, 2006. Working Group meetings were held on August 8-9, 2006, September 25-26, 2006, October 30-31, 2006, and the Working Group presented recommendations regarding revisions to requirements for locomotive sanders to the full RSAC on September 21, 2006. The NPRM regarding sanders was published in the Federal Register on March 6, 2007 (72 FR 9904). Comments received were discussed by the Working Group for clarification, and FRA published a Final Rule on October 19, 2007 (72 FR 59216). The Working Group is continuing the review of Part 229 with work in the areas of locomotive cab temperature standards, alerters, remote control locomotives, and critical locomotive electronics, with a view to proposing further revisions to update the Standards. The Working Group met on January 9-10, 2007, November 27-28, 2007, February 5-6, 2008, May 20-21, 2008, August 5-6, 2008, October 22-23, 2008, January 6-7, 2009, and April 15-16, 2009. The group has completed the review of Part 229 and was unable to reach consensus regarding locomotive cab temperature standards, locomotive alerters, and remote control locomotives. The group reached consensus regarding critical locomotive electronic standards, updated annual/biennial air brake standards, clarification of the “air brakes operate-as-intended requirement, locomotive pilot clearance within hump classification yards, clarification of the high-voltage warning requirement, updated headlight lamp requirements, and language to allow locomotive records to be stored electronically. FRA will brief the full RSAC and proceed to an NPRM. There are no meetings planned for the immediate future but the group may be called back into service to address comments received on the NPRM. Contact: George Scerbo, (202) 493-6249.

Task 06-02—Track Safety Standards and Continuous Welded Rail (CWR). Section 9005 of the Safe, Accountable, Flexible, Efficient Transportation Equity Act: A Legacy for Users (Pub. L. 109-59), the 2005 Surface Transportation Authorization Act, requires FRA to issue requirements for inspection of joint bars in CWR to detect cracks that could affect the integrity of the track structure (49 U.S.C. 20142(e)). FRA published an interim final rule (IFR) establishing new requirements for inspections on November 2, 2005 (70 FR 66288). On October 11, 2005, FRA offered the RSAC a task to review comments on this IFR, but the conditions could not be established under which the Committee could have undertaken this with a view toward consensus. Comments on the IFR were received through December 19, 2005. FRA reviewed the comments. On February 22, 2006, the RSAC accepted this task to review and revise the CWR related to provisions of the Track Safety Standards, with particular emphasis on reduction of derailments and consequent injuries and damage caused by defective conditions, including joint failures, in track using CWR. A Working Group was established. The first Working Group meeting was held April 3-4, 2006, at which time the Working Group reviewed comments on the IFR. The second Working Group meeting was held April 26-28, 2006. The Working Group also met May 24-25, 2006, and July 19-20, 2006. The Working Group reported consensus recommendations for the final rule that were accepted by the full RSAC Committee by mail ballot on August 11, 2006. The final rule was published in the Federal Register on October 11, 2006 (71 FR 59677). The Working Group continued review of 49 CFR Section 213.119, with a view to proposing further revisions to update the standards. The Working Group met January 30-31, 2007, April 10-11, 2007, June 27-28, 2007, August 15-16, 2007, October 23-24, 2007, and January, 8-9, 2008. The Working Group reported consensus recommendations for revisions to 49 CFR Section 213.119 regulations to the full RSAC Committee on February 20, 2008, and the Working Groups recommendations were accepted and incorporated into FRA's publication of an NPRM on December 1, 2008 (73 FR 73077). The NPRM proposes specific requirements for the qualification of persons designated to inspect CWR track, or supervise the installation, adjustment, or maintenance of CWR track. FRA is also proposing to clarify the procedures associated with the submission of CWR plans to FRA by track owners. FRA proposes that these plans focus on inspecting CWR for pull-apart prone conditions, and focus more specifically on CWR joint installation and maintenance procedures. FRA is preparing a final rule with a target publication date of July 2009. See Tasks 07-01 and 08-03, below. Contact: Ken Rusk, (202) 493-6236.

Task 06-0—Medical Standards for Safety-Critical Personnel. This task was accepted on September 21, 2006, to enhance the safety of persons in the railroad operating environment and the public by establishing standards and procedures for determining the medical fitness for duty of personnel engaged in safety-critical functions. The Medical Standards Working Group has met 10 times since December 2006; the last Working Group meeting was held April 22-23, 2008. A Medical Standards Physicians Task Force was established in May 2007 to provide medical support for this task and had met four times prior to the last Working Group meeting held April 22-23, 2008. It was noted by FRA during the April 2008 Working Group meeting that although general agreement about the general structure of the medical standards had been achieved by the Working Group, significant points of departure remained unresolved among Working Group members despite efforts to achieve consensus. FRA announced that the agency would take the Working Group's products through April 2008, including information provided by the Medical Standards Physicians Task Force, and endeavor to produce a draft medical standards document by June 30, 2009. The Physicians Task Force met June 22-23, 2008, and began the process of development of mandatory medical guidelines, which will be the specific medical criteria used by railroad Chief Medical Officers and railroad physicians to assess whether safety-critical employees, who have specific medical conditions and/or take certain categories of medications, are medically fit for duty. Since meeting on June 22-23, 2008, the Physicians Task Force has met on September 8-10, 2008, October 8, 2008, November 12-13, 2008, December 8-10, 2008, January 27-28, 2009, February 24-25, March 11-12, and March 31-April 1, 2009, to continue development of the mandatory medical guidelines. The Physicians Task Force is developing medical criteria and protocols for safety critical positions for the Working Group and FRA is drafting the regulation text. The completed draft medical standards language and the accompanying Mandatory Medical Guidelines document will be presented to the Working Group, when complete. There are currently no Medical Standards Working Group meetings scheduled. Contact: Dr. Bernard Arseneau, (202) 493-6002.

Task 07-01—Track Safety Standards. This task was accepted on February 22, 2007, to consider specific improvements to the Track Safety Standards or other responsive actions, supplementing work already underway on CWR, specifically to review controls applied to reuse of rail in CWR “plug rail”; review the issue of cracks emanating from bond wire attachments; consider improvements in the Track Safety Standards related to fastening of rail to concrete ties; and to ensure a common understanding within the regulated community concerning requirements for internal rail flaw inspections. The tasks were assigned to the Track Safety Standards Working Group. The Working Group will report any planned activity to the full Committee at each scheduled full RSAC meeting, including milestones for completion of projects and progress toward completion. The first Working Group meeting was held on June 27-28, 2007 and the group met again on August 15-16, 2007, and October 23-24, 2007. Two Task Forces were created under the Working Group: Concrete Ties and Rail Integrity Task Forces. The Concrete Ties Task Force met on November 26-27, 2007, February 13-14, 2008, April 16-17, 2008, July 9-10, 2008, and September 17-18, 2008. The Concrete Ties Task Force finalized consensus language regarding concrete crossties (49 CFR Part 213) and presented a recommendation to the Track Standards Working Group at the November 20, 2008, Working Group meeting. The language was approved by both the Working Group and the December 10, 2008, RSAC meeting and the Task Force was dissolved. FRA is preparing a NPRM with a target publication date of July 2009. Contact: Ken Rusk, (202) 493-6236.

Task 08-03—Track Safety Standards Rail Integrity. This Task was accepted on September 10, 2008, to consider specific improvements to the Track Safety Standards or other responsive actions designed to enhance rail integrity. The Rail Integrity Task Force was created in October 2007 under Task 07-01 and first met on November 28-29, 2007. The Task Force met on February 12-13, 2008, April 15-16, 2008, July 8-9, 2008, September 16-17, 2008, and February 3-4, 2009. Consensus has been achieved on bond wires and a common understanding on internal rail flaw inspections has been reached; however, more work remains before a recommendation for possible regulatory action is made. The next Rail Integrity Task Force meeting is scheduled for June 16-17, 2009. Contact: Ken Rusk, (202) 493-6236.

Task No. 08-04—Positive Train Control. This task was accepted on December 10, 2008, to provide advice regarding development of implementing regulations for Positive Train Control (PTC) systems and their deployment under the RSIA. The task included a requirement to convene an initial meeting not later than January 2009 and to report recommendations back to the RSAC no later than April 24, 2009. The PTC Working Group was created in December 2008 by working group member nominations from Committee member organizations under Task 08-04 and the kickoff meeting was held on January 26-27, 2009. The group met again on February 11-13, 2009, February 25-27, 2009, March 17-18, 2009, and March 31-April 1, 2009. On April 2, 2009, the RSAC approved the request by the Working Group for agreement to vote on the draft rule text recommendations from the working group by mail ballot. On May 11, 2009, by majority vote via mail ballot, the RSAC Committee accepted the recommendations of the PTC Working Group and will forward those recommendations to the Administrator, with the understanding that there are other issues for which FRA will be making proposals with respect to its resolution. The NPRM is currently in coordination with a target publication date of June 30, 2009. If time permits, the PTC Working Group will be reconvened to discuss any comments received on the NPRM. An additional Task Force was formed to assist FRA in developing a model template for a successful PTC Implementation Plan, which are to be submitted by April 16, 2010, under the mandates of the RSIA of 2008. FRA provided a draft template to the Task Force for comment on May 20, 2009, and received an alternative draft on June 10, 2009, for review and consideration along with a proposed model for risk-based implementation prioritization. Contact: Grady Cothen, (202) 493-6302.

Task No. 08-05—Railroad Bridge Safety Assurance. This Task was accepted on December 10, 2008, to develop a draft rule encompassing the requirements of Section 417 of the Rail Safety Improvement Act of 2008, Railroad Bridge Safety Assurance. This Section directs the Secretary of Transportation to promulgate regulations, not later than 12 months after the October 16, 2008, date of enactment, requiring owners of track carried on one or more railroad bridges to adopt a bridge safety management program to reduce the risk of human casualties, environmental damage, and disruption to the Nation's railroad transportation system that would result from a catastrophic bridge failure. The Railroad Bridge Working Group created under Task 08-01 was directed to reconvene and the kickoff meeting was held January 28-29, 2009. The Working Group also met on February 23-24, 2009, where they reached agreement on consensus language covering all but two issues that remain to be resolved pending comments on the NPRM. The working group presented the draft language to the full Committee at the April 2, 2009, meeting and the Committee approved the consensus recommendations by vote as the recommendations of the Committee to the FRA Administrator. The resulting NPRM is currently in coordination, with a target publication date of September 1, 2009. The Working Group may be reconvened to address comments received on the NPRM. Contact: Gordon Davids, (202) 230-6320.

Task No. 08-06—Hours of Service Recordkeeping and Reporting. This Task was accepted on December 10, 2008, to develop revised recordkeeping and reporting requirements for hours of service of railroad employees. The Hours of Service Working Group was formed in January 2009 by member nominations from Committee member organizations and the first meeting was held on January 22-23, 2009. The working group met again on February 4-6, 2009, February 18-20, 2009 and March 23-25, 2009. At the full RSAC meeting held on April 2, 2009, the working group reported that partial consensus was reached on the draft rule text and the Committee approved the consensus recommendations by vote as the recommendations of the Committee to the FRA Administrator and the final rule was published on May 27, 2009, with an effective date of July 16, 2009 (74 FR 25330). Contact: Mark McKeon, (202) 493-6350.

Task No. 08-07—Conductor Certification. This task was accepted on December 10, 2008, to develop regulations for certification of railroad conductors, as required by the RSIA, and to consider any appropriate related amendments to existing regulations and report recommendations for proposed or IFR (as determined by FRA in consultation with the Office of the Secretary of Transportation and the Office of Management and Budget) by October 16, 2009. The group has been tasked to review safety data bearing on opportunities for reducing risk associated with the duties performed by freight and passenger conductors and to assist FRA in developing regulations responsive to the legislative mandate and to consider any revisions to 49 CFR part 240 appropriate to conform and update the certification programs for locomotive engineers and conductors. The Conductor Certification Working Group has been officially formed through the Committee member nomination process and the first meeting is scheduled for July 21-23, 2009, with follow-on meetings planned for August 25-27, 2009, and September 15-17, 2009. Contact: Mark McKeon, (202) 493-6350.

Task No. 09-01—Passenger Hours of Service. This Task was accepted on April 2, 2009, to provide advice regarding development of implementing regulations for the hours of service of operating employees of commuter and intercity passenger railroads under the RSIA. The group has been tasked to review available data concerning the effects of fatigue on the performance of subject employees and to consider the role of fatigue prevention in determining maximum hours of service. The group has also been tasked to consider the potential for alternative approaches to hour of service using available tools for evaluating the impact of various crew schedules, and determine the effect of alternative approaches on the availability of employees to support passenger service. The group is charged to report whether existing hours of service restrictions are effective in preventing fatigue among subject employees, whether an alternative approach to hours of service for the subject employees would enhance safety, and whether alternative restrictions on hours of service could be coupled with other fatigue countermeasures to promote the fitness of employees for safety-critical duties. The Passenger Hours of Service Working Group has been officially formed through the formal Committee member nomination process and the first meeting is scheduled for June 24, 2009. Contact: Grady Cothen, (202) 493-6302.

Completed Tasks

Task 96-1—(Completed.) Revising the Freight Power Brake Regulations.

Task 96-2—(Completed.) Reviewing and recommending revisions to the Track Safety Standards (49 CFR Part 213).

Task 96-3—(Completed.) Reviewing and recommending revisions to the Radio Standards and Procedures (49 CFR Part 220).

Task 96-5—(Completed.) Reviewing and recommending revisions to Steam Locomotive Inspection Standards (49 CFR Part 230).

Task 96-6—(Completed.) Reviewing and recommending revisions to miscellaneous aspects of the regulations addressing Locomotive Engineer Certification (49 CFR Part 240).

Task 96-7—(Completed.) Developing Roadway Maintenance Machines (On-Track Equipment) Safety Standards.

Task 96-8—(Completed.) This Planning Task evaluated the need for action responsive to recommendations contained in a report to Congress entitled, Locomotive Crashworthiness & Working Conditions.

Task 97-1—(Completed.) Developing crashworthiness specifications (49 CFR Part 229) to promote the integrity of the locomotive cab in accidents resulting from collisions.

Task 97-2—(Completed.) Evaluating the extent to which environmental, sanitary, and other working conditions in locomotive cabs affect the crew's health and the safe operation of locomotives, proposing standards where appropriate.

Task 97-3—(Completed.) Developing event recorder data survivability standards.

Task 97-4 and Task 97-5—(Completed.) Defining PTC functionalities, describing available technologies, evaluating costs and benefits of potential systems, and considering implementation opportunities and challenges, including demonstration and deployment.

Task 97-6—(Completed.) Revising various regulations to address the safety implications of processor-based signal and train control technologies, including communications-based operating systems.

Task 97-7—(Completed.) Determining damages qualifying an event as a reportable train accident.

Task 00-1—(Task withdrawn.) Determining the need to amend regulations protecting persons who work on, under, or between rolling equipment and persons applying, removing, or inspecting rear end marking devices (Blue Signal Protection).

Task 01-1—(Completed.) Developing conformity of FRA's regulations for accident/incident reporting (49 CFR Part 225) to revised regulations of the Occupational Safety and Health Administration, U.S. Department of Labor, and to make appropriate revisions to the FRA Guide for Preparing Accident/Incident Reports.

Task 08-01—(Completed.) Report on the Nation's Railroad Bridges. Report to the FRA Administrator on the current state of railroad bridge safety management, update the findings and conclusions of the 1993 Summary Report of the FRA Railroad Bridge Safety Survey, and include recommendations for further action.

Please refer to the notice published in the Federal Register on March 11, 1996 (61 FR 9740), for more information about the RSAC.

Issued in Washington, DC, on June 15, 2009.
Grady C. Cothen, Jr.,
Deputy Associate Administrator for Safety Standards and Program Development.

[FR Doc. E9-14390 Filed 6-18-09; 8:45 am]

BILLING CODE 4910-06-P